DEPARTMENT OF COMMERCE

National Technical Information Service

Publication of the 2009 Export Administration Regulations

AGENCY: National Technical Information Service, Commerce.

ACTION: Regulations available for purchase.

SUMMARY: The National Technical Information Service (NTIS) is accepting orders for the 2009 edition of the Export Administration (EA) Regulations, which should be available on or about April 5, 2009. The EA Regulations are meant to protect the United States from foreign threats. Failure to comply with the EA Regulations can result in adverse publicity, loss of export privileges, fines, and imprisonment

DATES: Orders may be placed upon publication of this notice.

ADDRESSES: To order the Export Administration Regulations fax: (703) 605-6880 (24 hours/7 days a week); or e-mail: subscriptions@ntis.gov. To order by mail: National Technical Information Service, 5285 Port Royal Road, Springfield, VA 22161.

FOR FURTHER INFORMATION CONTACT: For additional information contact the subscription desk at 1-800-363-2068 or (703) 605-6060, 8:30 a.m.-5 p.m., Eastern Time, M-F.

SUPPLEMENTARY INFORMATION: The EA Regulations are issued by the United States Department of Commerce, Bureau of Industry & Security (BIS) under laws relating to the control of certain exports, re-exports, and related activities. The EA Regulations serve the national security, foreign policy, and nonproliferation interests of the United States. They assist the United States in carrying carry out certain international obligations. They restrict access to dual use items by countries or persons that might apply such items to uses inimical to U.S. interests. They protect the United States from the adverse impact of the unrestricted export of commodities in short supply. In addition, they contain provisions designed to ensure that United States persons are not improperly supporting an unsanctioned foreign boycott or restrictive trade practice. The EA Regulations offer authoritative guidance on all of these matters as well as assisting businesses in determining when an export license is necessary; explaining how to obtain one; clarifying the policies that are followed in considering license applications; and explaining how exporters can learn about the latest changes and requirements.

Dated: February 27, 2009.
Donald Hagen,
Associate Director, NTIS.

[FR Doc. E9-6348 Filed 3-20-09; 8:45 am]

BILLING CODE 3510-04-P